DEPARTMENT OF ENERGY

Federal Energy Regulatory Commission

[Docket No. RP14-1083-000]

Texas Gas Transmission, LLC; Notice of Technical Conference

The Commission's July 31, 2014 Order in the above-captioned proceeding ¹ directed that a technical conference be held to address all issues raised by Texas Gas Transmission, LLC's (Texas Gas) July 1, 2014 filing.

¹ Texas Gas Transmission, LLC, 148 FERC ¶ 61,081 (2014) (July 31, 2014 Order).

Take notice that a technical conference will be held on Tuesday, September 30, 2014, at 10:00 a.m., in a room to be designated at the offices of the Federal Energy Regulatory Commission, 888 First Street NE., Washington, DC 20426.

At the technical conference, Texas Gas should be prepared to discuss all issues raised by its filing, including but not limited to the concerns raised in the protests and comments.

FERC conferences are accessible under section 508 of the Rehabilitation Act of 1973. For accessibility accommodations please send an email to accessibility@ferc.gov or call toll free (866) 208-3372 (voice) or 202-502-8659 (TTY), or send a fax to 202-208-2106 with the required accommodations.

All interested persons are permitted to attend. For further information please contact Andrew Knudsen at (202) 502-6527 or email Andrew.Knudsen@ferc.gov.

Dated: August 13, 2014.
Kimberly D. Bose,
Secretary.

[FR Doc. 2014-19666 Filed 8-19-14; 8:45 am]

BILLING CODE 6717-01-P